DEPARTMENT OF ENERGY

Federal Energy Regulatory Commission

[Docket No. AD13-7-000]

Centralized Capacity Markets in Regional Transmission Organizations and Independent System Operators; Notice of Technical Conference

Take notice that the Federal Energy Regulatory Commission (Commission) staff will hold a technical conference on centralized capacity markets in Regional Transmission Organizations and Independent System Operators (RTOs/ISOs) (centralized capacity markets). The technical conference will take place on September 25, 2013 beginning at 9:00 a.m. and ending at approximately 5:00 p.m. The conference will be held at the Federal Energy Regulatory Commission, 888 First Street NE., Washington, DC 20426. All interested persons are invited to participate at the conference. Commission members may participate in the conference.

The purpose of the technical conference is to consider how current centralized capacity market rules and structures are supporting the procurement and retention of resources necessary to meet future reliability and operational needs. Since their establishment, centralized capacity markets have continued to evolve. Meanwhile, the mix of resources is also evolving in response to changing market conditions, including low natural gas prices, state and federal policies encouraging the entry of renewable resources and other specific technologies, and the retirement of aging generation resources. This changing resource mix may result in future reliability and operational needs that are different than those of the past. In addition, some states have pursued individual resource adequacy policies to ensure the development of new resources in particular areas or with particular characteristics, and questions have been raised as to how those individual policies can be accommodated in centralized capacity markets.

The Commission has addressed a number of these issues in specific cases, based on the facts and circumstances presented in a given case and the particular centralized capacity market design implemented by individual regions. This technical conference will provide an opportunity to review at a high level the centralized capacity market rules and structures, and will examine how these markets are accomplishing their intended goals and objectives through a competitive, market-based process. Recognizing and respecting differences across the markets, the technical conference will focus on the goals and objectives of existing centralized capacity markets (e.g., resource adequacy, long-term price signals, fixed-cost recovery, etc.) and examine how specific design elements are accomplishing existing and emerging goals and objectives (e.g., forward period, commitment period, product definition and specificity, market power mitigation, etc.).

A supplemental notice will be issued prior to the technical conference with further details regarding the agenda and organization of the technical conference, as well as information regarding interest in speaking at the technical conference. Those interested in attending the technical conference are encouraged to register at the following Web page: https://www.ferc.gov/whats-new/registration/cap-markets-09-25-13-form.asp

The technical conference will not be transcribed. However, there will be a free webcast of the conference. The webcast will allow persons to listen to the technical conference, but not participate.

Anyone with Internet access who wants to listen to the conference can do so by navigating to www.ferc.gov's Calendar of Events and locating the technical conference in the Calendar. The technical conference will contain a link to its webcast. The Capitol Connection provides technical support for the webcast and offers the option of listening to the meeting via phone-bridge for a fee. If you have any questions, visit www.CapitolConnection.org or call 703-993-3100.

FERC conferences are accessible under section 508 of the Rehabilitation Act of 1973. For accessibility accommodations please send an email to accessibility@ferc.gov or call toll free (866) 208-3372 (voice) or (202) 502-8659 (TTY), or send a fax to (202) 208-2106 with the requested accommodations.

For more information about the technical conference, please contact:

Shiv Mani (Technical Information), Office of Energy Policy and Innovation, Federal Energy Regulatory Commission, 888 First Street NE., Washington, DC 20426, (202) 502-8240, Shiv.Mani@ferc.govmailto:

Eric Eversole (Legal Information), Office of General Counsel, Federal Energy Regulatory Commission, 888 First Street NE., Washington, DC 20426, (202) 502-8697, Eric.Eversole@ferc.gov.

Sarah McKinley (Logistical Information), Office of External Affairs, Federal Energy Regulatory Commission, 888 First Street NE., Washington, DC 20426, (202) 502-8004, Sarah.McKinley@ferc.gov.

Dated: June 17, 2013.
Kimberly D. Bose,
Secretary.

[FR Doc. 2013-14886 Filed 6-20-13; 8:45 am]

BILLING CODE 6717-01-P